DEPARTMENT OF DEFENSE

GENERAL SERVICES ADMINISTRATION

NATIONAL AERONAUTICS AND SPACE ADMINISTRATION

[OMB Control No. 9000-0198; Docket No. 2018-0003; Sequence No. 20]

Submission for OMB Review; Violations of Arms Control Treaties or Agreements With the United States

AGENCY: Department of Defense (DOD), General Services Administration (GSA), and National Aeronautics and Space Administration (NASA).

ACTION: Notice.

SUMMARY: Under the provisions of the Paperwork Reduction Act, the Regulatory Secretariat Division will be submitting to the Office of Management and Budget (OMB) a request to review and approve an existing OMB emergency clearance notice regarding violations of arms control treaties or agreements with the United States.

DATES: Submit comments on or before January 17, 2019.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Ms. Mandell/IC 9000-0198, Violations of Arms Control Treaties or Agreements with the United States.

Instructions: Please submit comments only and cite Information Collection 9000-0198, Violations of Arms Control Treaties or Agreements with the United States, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Cecelia L. Davis, Procurement Analyst, Federal Acquisition Policy Division, at 202-219-0202 or email cecelia.davis@gsa.gov.

SUPPLEMENTARY INFORMATION:

A. Purpose

This is a requirement for an extension of OMB control number 9000-0198, Violations of Arms Control Treaties or Agreements with the United States.

Section 1290 of Public Law 114-328 (codified at 22 U.S.C. 2593e) went into effect on December 23, 2016. The implementation of this FAR case will protect against doing business with entities that engage in any activity that contributed to or is a significant factor in a country's failure to comply with arms control treaties or agreements with the United States. This action is necessary because of statutory requirements relating to a national security function of the United States.

A notice was published in the Federal Register at 83 FR 28145, on June 15, 2018, as part of an interim rule under FAR Case 2017-018, Violations of Arms Control Treaties or Agreements with the United States.

B. Public Comment

A 60-day notice published in the Federal Register at 83 FR 29117 on June 22, 2018. No comments were received.

C. Annual Reporting Burden

Number of Respondents: 11,634.

Responses per Respondent: 8.6.

Total Responses: 99,796.

Average Burden Hours per Response: 0.4 hours.

Total Burden Hours: 40,478.

Obtaining Copies of Proposals: Requesters may obtain a copy of the information collection documents from the General Services Administration, Regulatory Secretariat Division (MVCB), 1800 F Street NW, Washington, DC 20405, telephone 202-501-4755. Please cite OMB Control No. 9000-0198, Violations of Arms Control Treaties or Agreements with the United States.

Janet Fry,
Director, Federal Acquisition Policy Division, Office of Governmentwide Acquisition Policy, Office of Acquisition Policy, Office of Governmentwide Policy.

[FR Doc. 2018-27365 Filed 12-17-18; 8:45 am]

BILLING CODE 6820-EP-P